DEPARTMENT OF JUSTICE

Notice of Lodging of Consent Decree Under the Clean Air Act

Notice is hereby given that on December 29, 2011, a proposed consent decree in United States, et al. v. Essroc Cement Company, Civil Action No. 2:11-cv-0650-DSC was lodged with the United States District Court for the Western District of Pennsylvania.

In this action the United States and Indiana, Pennsylvania, Puerto Rico and West Virginia sought injunctive relief and civil penalties for violations of the following statutory and regulatory requirements of the Clean Air Act (the “Act”) at Essroc cement plants: the Prevention of Significant Deterioration (“PSD”) provisions of the Act, 42 U.S.C. 7470 to 7492; the nonattainment New Source Review (“nonattainment NSR”) provisions of the Act, 42 U.S.C. 7501 to 7515; the federally-approved and enforceable state implementation plans, or SIPs, which incorporate and/or implement the above-listed Federal PSD and/or nonattainment NSR requirements; and, Title V of the Act, 42 U.S.C. 7661 to 7661f, and Title V's implementing Federal and state regulations. The proposed consent decree requires installation and continuous operation of a selective non-catalytic reduction system (SNCR) for NOX at five cement kilns. The proposed consent decree also requires testing a selective catalytic reduction system (SCR) for NOX control at two cement kilns. If the SCR tests are unsuccessful, Essroc will apply SNCR at each of the kilns. For controlling SO2, Essroc will install a Dry Scrubber/Lime Injection system at seven cement kilns. Two cement kilns, under the proposed settlement, will be permanently retired. As mitigation for violations under the Act, Essroc will replace old engines in several off-road vehicles at its facilities. Essroc will also pay a civil penalty of $1.7 million, with 50 percent ($850,000) payable to the United States and the remander allocated among the four states.

The Department of Justice will receive for a period of thirty (30) days from the date of this publication comments relating to the proposed consent decree. Comments should be addressed to the Assistant Attorney General, Environment and Natural Resources Division, and either emailed to pubcomment-ees.enrd@usdoj.gov or mailed to P.O. Box 7611, U.S. Department of Justice, Washington, DC 20044-7611, and should refer to United States, et al. v. Essroc Cement Company, Civil Action No. 2:11-cv-0650-DSC (DJ No. 90-5-2-1-09608).

During the public comment period, the proposed consent decree, may also be examined on the following Department of Justice Web site, http://www.usdoj.gov/enrd/Consent_Decrees.html. A copy of the proposed consent decree may also be obtained by mail from the Consent Decree Library, P.O. Box 7611, U.S. Department of Justice, Washington, DC 20044-7611, or by faxing or emailing a request to “Consent Decree Copy” (EESCDCopy.ENRD@usdoj.gov), fax no. (202) 514-0097, phone confirmation number (202) 514-5271. If requesting a copy from the Consent Decree Library by mail, please enclose a check in the amount of $21.50 (25 cents per page reproduction cost) payable to the U.S. Treasury or, if requesting by email or fax, please forward a check in that amount to the Consent Decree Library at the address given above.

Robert Brook,
Assistant Chief, Environmental Enforcement Section, Environment and Natural Resources Division.

[FR Doc. 2011-33821 Filed 1-4-12; 8:45 am]

BILLING CODE 4410-15-P